DEPARTMENT OF THE INTERIOR

Bureau of Indian Affairs

25 CFR Part 170

Proposed Membership of the Negotiated Rulemaking Committee Under Section 1138 of the No Child Left Behind Act of 2001

AGENCY: Bureau of Indian Affairs, Interior.

ACTION: Proposed membership of negotiated rulemaking committee.

SUMMARY: As required by the Negotiated Rulemaking Act, the Secretary of the Interior has selected the proposed members of a committee to develop recommendations for proposed rules for Indian education under six sections of The No Child Left Behind Act of 2001. As required by Section 1138 of the No Child Left Behind Act of 2001, representatives of tribal and tribally-controlled schools [Tribes with Bureau-funded schools] were invited to nominate tribal representatives to serve on the committee. After considering nominations, the Secretary proposes to appoint the persons named in this notice as tribal committee members. Tribes, tribal organizations, and individual tribal members may submit comments on the proposed tribal committee membership, apply for tribal membership on the committee, or submit other nominations for tribal membership on the committee. The Secretary also proposes to appoint Federal representatives to the committee, as listed.

DATES: Comments on the proposed tribal members of this negotiated rulemaking committee must be received no later than June 4, 2003.

ADDRESSES: Send nominations and comments to Starr Penland, Office of Indian Education Programs, Bureau of Indian Affairs, U.S. Department of the Interior, MS-3512-MIB, 1849 C Street NW., Washington, DC 20240, or by fax to 202-273-0030. Comments that we receive will be available for inspection at the address listed above from 9 a.m. to 4 p.m., Monday through Friday.

FOR FURTHER INFORMATION CONTACT: Catherine Freels, Designated Federal Official, Office of the Southwest Regional Solicitor, 505 Marquette Avenue, Suite 1800, Albuquerque, New Mexico, or by telephone at (505) 248-5605. We will post additional information as it becomes available on the Office of Indian Education Programs Web site at http//www.oiep.bia.edu.

SUPPLEMENTARY INFORMATION: Section 1138 of The No Child Left Behind Act of 2001 (Pub. L. 107-110) requires the Secretary to follow a negotiated rulemaking process to issue regulations under six sections of the Act. (These sections are: 1116(g), 1124, 1127, 1130, 1136, and 1043.) Section 1138 of the Act requires that in establishing this committee, the Secretary must follow the procedures of negotiated rulemaking under subchapter III of chapter 5 of title 5 (the Negotiated Rulemaking Act) in a manner that:

(1) Reflects the unique government-to-government relationship between the Indian tribes and the United States;

(2) Ensures that the membership of the committee includes only representatives of the Federal Government and of tribes; and

(3) To the extent possible, allots tribal representation based upon the tribes' proportionate share of the total enrollment in BIA schools.

We conducted 14 regional consultation meetings in August and September 2002 to obtain guidance on the proposed rulemaking. Through the meetings and through comments we received, we identified interests that would be significantly affected by the final rule. In selecting committee members, the Secretary has considered these interests.

The Secretary has determined that the proper functioning of the committee requires that the committee be limited to no more than the 25 members recommended by the Negotiated Rulemaking Act (5 U.S.C. 565). The Secretary has selected 19 tribal representatives and 6 Federal representatives for the committee, for a proposed total of 25 members.

The Secretary finds that the proposed tribal representatives for the committee:

(1) Represent a balance of interests that will be significantly affected by the final rules (i.e., parents; teachers; school board members; and administrators of tribal and tribally operated contract day schools, grant day schools, grant boarding schools, and peripheral dormitories);

(2) Proportionately represent students from tribes served by Bureau-funded schools;

(3) Reflect the different varieties of school size, type of school and facility, and geographical location; and

(4) Have been selected using a process that considers the nominees' experience and expertise in Indian education and outstanding achievements or special skills.

The first meeting of the committee is tentatively scheduled for June 2003, in Albuquerque, New Mexico. We will post further information on the first meeting of the committee on our Web site at http//www.oiep.bia.edu.

Proposed Tribal Committee Members

The Secretary proposes the following tribal representatives for the negotiated rulemaking committee:

Nominee | Tribal affiliation | Educational affiliation
Greg Anderson | Muscogee (Creek) Nation | Administrator, Creek Nation-Eufaula Dormitory.
Lorraine Begay | Navajo Nation | Director, Business Services, Greasewood Springs Community School, Inc.
Pauleen Billie | Navajo Nation | Executive Director, Navajo Area School Board Association.
Faye Blue Eyes | Navajo Nation | Director of Support Services, Shiprock Alternative Schools, Inc.
Roger Bordeaux | Potowatomi Nation | Superintendent of Tiospa Zina Tribal School.
Deborah Bordeaux | Oglala Sioux Tribe | Principal, Loneman School.
Doyce Cannon | Eastern Band of Cherokee Indians | Director of Education, Cherokee Central Schools.
Mary Helen Creamer | Navajo Nation | Program Manager, Tribal Education Department.
Laverne Dallas | Hopi Tribe | President, Hopi School Board.
Zachary Ducheneaux | Cheyenne River Sioux Tribe | District 6 Representative, Cheyenne River Sioux Tribal Council.
Gus Kenne, Jr | Navajo Nation | Director of Education, Pine Hill School.
David Germany | Mississippi Band of Choctaw | Education Planner, Choctaw Tribal School System.
Anthony (Tony) Pivec | Cherokee Nation | Superintendent, Sequoyah High School.
Dolores McKerry | Navajo Nation | Program Manager for North Central Association.
Waye Newell | Pasamaquoddy Tribe | Director of Culture and Bilingual Education.
Mark Sorenson | Navajo Nation | Executive Director of Little Singer Community School.
Terry Yellow Fat | Standing Rock Sioux Tribe | Superintendent, Standing Rock Community School.
Wayne Waddoups | Shoshone-Bannock | Superintendent, Shoshone Bannock School District # 512.
Linda Warner | Comanche Nation | Chief Executive Officer, Indian Community School of Milwaukee.

Proposed Federal Committee Members

The Secretary proposes the following Federal representatives for the negotiated rulemaking committee:

Name | Affiliation
Theresa Rosier | Office of the Assistant Secretary-Indian Affairs.
Sharon Wells | Special Assistant to the Deputy Director, School Operations, BIA.
Edith Blackwell | Associate Solicitor, Division of Indian Affairs, Office of the Solicitor.
Bruce Steele | Principal of Polacca Day School, DIA-OIEP-Hopi Agency.
Michael Rossetti | Counselor to the Secretary of the Interior.
Larry Byers | Acting School Supervisor of Chemawa Indian School, BIA-OIEP-Portland Agency.

If you are a tribe with Bureau-funded schools, an Indian education organization, or an interested individual, we invite you to comment on the nominations in this notice or to nominate other persons (or yourself) for membership on the committee. Any nomination you submit must include all of the following:

(1) The nominee's name, title, business address, telephone number and fax number;

(2) The nominee's resume reflecting experience and expertise in Indian education issues;

(3) The interest(s) to be represented by the nominee (based on the interests listed above);

(4) Evidence that the nominee is authorized to represent the tribal interest(s) the nominee is proposed to represent;

(5) The reasons that the proposed members of the committee identified in this notice do not represent the interest(s) you identify in item (3); and

(6) Your name, address, telephone number, and tribe or tribal organization.

We will consider only comments and nominations that we receive by the close of business on June 4, 2003, at the location indicated in the ADDRESSES section of this notice.

Dated: May 1, 2003.
Aurene M. Martin,
Acting Assistant Secretary—Indian Affairs.

[FR Doc. 03-11167 Filed 5-1-03; 2:54 pm]

BILLING CODE 4310-02-M